DEPARTMENT OF THE INTERIOR

Fish and Wildlife Service

Notice of Intent To Prepare an Environmental Impact Statement for the Proposed Establishment of the Little Darby National Wildlife Refuge.

AGENCY: Fish and Wildlife Service, Interior.

ACTION: Notice of intent to prepare an Environmental Impact Statement (EIS) for the proposed establishment of the Little Darby National Wildlife Refuge.

SUMMARY: This notice advises the public that the U.S. Fish and Wildlife Service (Service) intends to gather the information necessary for the preparation of an EIS. The action to be evaluated by this EIS is the establishment of the Little Darby National Wildlife Refuge, located in Madison and Union counties, Ohio. This notice is being furnished as required by the National Environmental Policy Act (NEPA) Regulations (40 CFR 1501.7 and 1508.22). The intent of the notice is to obtain suggestions and additional information from other agencies and the public on the scope of issues to be addressed in the EIS. Comments and participation in this scoping process are solicited.

DATES: Written comments should be received on or before July 10, 2000. The dates and schedule of the public scoping meetings are: June 19—(6:00 p.m.-9:00 p.m.) at the Made From Scratch Conference Center, 7500 Montgomery Dr., Plain City, OH, and June 20 (6 p.m.-9 p.m.) at the Della Selsor Building located on the Madison County Fairgrounds, London, Ohio.

Public Involvement: The public will be invited to participate in the scoping process, review of the draft EIS, and a public hearing. Release of the draft EIS for public comment and the public hearing will be announced in the local news media, as these dates are established.

Comments that were received during the scoping process for the Environmental Assessment and on the draft Environmental Assessment will be considered in the draft EIS. The Service appreciates all those that have taken time to provide comments during the Environmental Assessment process. At this stage, the Service is especially seeking new ideas or concepts beyond those that have already been raised. Written comments should be received within 30 days from the date of publication of this Notice of Intent.

All comments received from individuals become part of the official public record. Requests for such comments will be handled in accordance with the Freedom of Information Act and the Council on Environmental Quality's NEPA regulations [40 CFR 1506.6(f)]. Our practice is to make comments, including names and home addresses of respondents, available for public review during regular business hours. Individual respondents may request that we withhold their home address from the record, which we will honor to the extent allowable by law. If a respondent wishes us to withhold his/her name and/or address, this must be stated prominently at the beginning of the comment.

ADDRESSES: Comments should be address to: Regional Director, Region 3, U.S. Fish and Wildlife Service, 1 Federal Drive, Fort Snelling, Minnesota 55111. Electronic mail comments may also be submitted within the comment period to: http://www.fws.gov/r3pao/planning/public/htm.

FOR FURTHER INFORMATION CONTACT: Mr. William Hegge, Darby Creek Watershed Project Manager, Reynoldsburg Field Office, U.S. Fish and Wildlife Service, 6950-H Americana Parkway, Reynoldsburg, Ohio 43068-4132; telephone 614-469-6923, extension 17; or Mr. Thomas Larson, Chief of Ascertainment and Planning, U.S. Fish and Wildlife Service, Bishop Henry Whipple Federal Building, 1 Federal Drive, Fort Snelling, Minnesota 55111; telephone 612-713-5430.

SUPPLEMENTARY INFORMATION:

Purpose of Action

The general purpose of the refuge would be “for the development, advancement, management, conservation, and protection of fish and wildlife resources” (Fish and Wildlife Act of 1956). More specifically, the Service's interests include preservation and restoration of Federal threatened and endangered species and migratory birds and their habitats in the Little Derby Creek Watershed, ensuring that the overall Darby Creek watershed biodiversity and Federal wildlife trust resources are protected and enhanced, while providing opportunities for wildlife-dependent public uses consistent with preservation and restoration of the natural resources. After having developed a draft Environmental Assessment and conducting a series of public meetings, the Service had decided that the preparation of an EIS is appropriate for this proposed action. The decision to prepare an EIS is based upon strong public interest in the project, both supportive and non-supportive. There has also been interest expressed in development of an EIS by local governments and by members of the Ohio Congressional delegation.

Need for Action

Big and Little Darby Creeks, located 20 miles west of downtown Columbus, are the major streams in a 580-square mile watershed encompassing portions of 6 counties in central Ohio. The Darby watershed is one of the healthiest aquatic systems of its size in the Midwest and is ranked among the top five warm freshwater habitats in Ohio by the Ohio Environmental Protection Agency. Land use in the drainage basin has historically been agriculture, with appropriately 80 percent of the land area in fields, row-cropped, in a corn-soybean rotation. The project area was the location of the easternmost extension of the mid-continent tallgrass prairie. The following eight points help explain the need to preserve this area:

(1) Existing and threatened conversion of the watershed, from agriculture to urban land uses, presents an increased risk to the health of this aquatic system.

(2) Scientists (Ohio EPA surveys) place the number of fish species in the Darby Creek System at 94 and 60+; in the Little Darby Creek sub watershed. The number of mollusk species, including the federally endangered Northern riffle shell and the Northern club shell, is 35 (Dr. Tom Watters). They are reported to be declining.

(3) There are 3 federally endangered, 1 threatened, 1 candidate, and 10 monitored species confirmed in the original project area or likely to be in the original project area.

(4) Collectively, 44 species are designated as being state threaten or endangered throughout the watershed. Another 36 species are identified as potentially threatened or of special interest in the state. A total of 38 (24 percent) species listed in the Service's regional conservation priorities would be affected potentially by the project as proposed in the draft Environmental Assessment.

(5) While the Refuge project area encompasses only 14-15 percent of the entire Little Darby Creek Watershed, it includes almost 50 percent of all stream miles and important aquatic habitat that is in the watershed.

(6) The Ohio Department of Natural Resources, the National Park Service and the Nature Conservancy have all given special designations to the Big Darby and Little Darby Creeks. The Nature Conservancy identified this watershed as one of the “Last Great Places” in the Western Hemisphere.

(7) A 1996 report (Swanson, D.) found that the population trend in Ohio for 10 species of nongame grassland migratory birds exhibited declines in populations from 30 to 84 percent.

(8) The Service's Regional Wetlands Concept Plan, November 1990, identified the Big Darby Creek Watershed that includes Little Darby Creek as, “One of the last remaining watersheds in Ohio with excellent biological diversity.” Under threat from development for water use and urban development, the area was listed as a potential wetland acquisition site.

Alternatives

A draft Environmental Assessment has been prepared and undergone public review and comment prior to this notice. This EIS will further evaluate alternative methods of establishing the Little Darby National Wildlife Refuge including alternatives for agricultural land use conservation that supports the Service's primary mission of fish and wildlife habitat protection. Socioeconomic, fiscal, and other community impacts related to alternative methods for refuge establishment will be further explored. Critical biological and potential management impacts will be evaluated as part of each part of each alternative or suite of alternatives that may have similar effects. Development of new alternatives and further evaluation of previously formulated alternatives will be made in conjunction with the local community, and interested state agencies. As required by NEPA, the Service will also analyze the “no action” alternative as a baseline for gauging the impacts of the establishment of the refuge.

Potential impacts that may be addressed in the EIS include effects on development, land use, habitat, wildlife populations, economics and listed species. Potential associated impacts may be related to drainage maintenance, school district revenue, tax revenue, fire management, and wildlife disease.

The environmental review of the proposed establishment of the Little Darby National Wildlife Refuge will be conducted in accordance with the requirements of the NEPA Act of 1969 as amended (42 U.S.C. 4371 et seq.), NEPA Regulations (42 CFR 1500-1508), other appropriate Federal regulations, and Service procedures for compliance with those regulations.

The Service estimates that the draft EIS will be made available to the public during the summer of 2000.

Dated: May 31, 2000.
William F. Hartwig,
Regional Director.

[FR Doc. 00-14101 Filed 6-8-00; 8:45 am]

BILLING CODE 4310-55-M